DEPARTMENT OF HEALTH AND HUMAN SERVICES

Food and Drug Administration

Advisory Committee Information Hotline

AGENCY: Food and Drug Administration, HHS.

ACTION: Notice.

SUMMARY: The Food and Drug Administration (FDA) is announcing that we have revised the Advisory Committee Information Hotline (the hotline). The hotline provides the public with access to the most current information available on FDA advisory committee meetings. This notice supersedes all previously published announcements of FDA's Advisory Committee Information Hotline.

FOR FURTHER INFORMATION CONTACT: Theresa L. Green, Committee Management Officer (HF-4), Food and Drug Administration, 5600 Fishers Lane, Rockville, MD 20857, 301-827-1220.

SUPPLEMENTARY INFORMATION: The Advisory Committee Information Hotline can be accessed by dialing 1-800-741-8138 or 301-443-0572. The advisory committee meeting information and information updates can also be accessed via FDA's Advisory Committee calendar at http://www.fda.gov/oc/advisory/accalendar/accalendar.html.

Each advisory committee is assigned a 10-digit number. This 10-digit number will appear in each individual notice of meeting. The public can obtain information about a particular advisory committee meeting by using the committee's 10-digit number. Information on the hotline is preliminary and may change before a meeting is actually held. The hotline will be updated when such changes are made. The following is a list of each advisory committee's 10-digit number to be used when accessing the hotline.

ADVISORY COMMITTEE | NUMBER
OFFICE OF THE COMMISSIONER
Science Board to the FDA | 3014512603
CENTER FOR BIOLOGICS EVALUATION AND RESEARCH
Allergenic Products Advisory Committee | 3014512388
Biological Response Modifiers Advisory Committee | 3014512389
Blood Products Advisory Committee | 3014519516
Transmissible Spongiform Encephalopathies Advisory Committee | 3014512392
Vaccines and Related Biological Products Advisory Committee | 3014512391
CENTER FOR DRUG EVALUATION AND RESEARCH
Anesthetic and Life Support Drugs Advisory Committee | 3014512529
Anti-Infective Drugs Advisory Committee (Peds SubC) | 3014512530
Antiviral Drugs Advisory Committee | 3014512531
Arthritis Advisory Committee | 3014512532
Cardiovascular and Renal Drugs Advisory Committee | 3014512533
Dermatologic and Ophthalmic Drugs Advisory Committee | 3014512534
Drug Safety and Risk Management Advisory Committee (Drug Abuse Subcommittee) | 3014512535
Endocrinologic and Metabolic Drugs Advisory Committee | 3014512536
Gastrointestinal Drugs Advisory Committee | 3014512538
Nonprescription Drugs Advisory Committee | 3014512541
Oncologic Drugs Advisory Committee | 3014512542
Peripheral and Central Nervous System Drugs Advisory Committee | 3014512543
Pharmaceutical Science, Advisory Committee for | 3014512539
Psychopharmacologic Drugs Advisory Committee | 3014512544
Pulmonary-Allergy Drugs Advisory Committee | 3014512545
Reproductive Health Drugs, Advisory Committee for | 3014512537
CENTER FOR FOOD SAFETY AND APPLIED NUTRITION
Food Advisory Committee (full committee and subcommittees) | 3014510564
Additives and Ingredients Subcommittee Biotechnology Subcommittee Contaminants and Natural Toxicants Subcommittee Dietary Supplements Subcommittee Infant Formula Subcommittee Nutrition Subcommittee |
CENTER FOR DEVICES AND RADIOLOGICAL HEALTH
Device Good Manufacturing Practice Advisory Committee | 3014512398
Medical Devices Advisory Committee (comprised of 18 panels) | N/A
Anesthesiology and Respiratory Therapy Devices Panel | 3014512624
Circulatory System Devices Panel | 3014512625
Clinical Chemistry and Clinical Toxicology Devices Panel | 3014512514
Dental Products Panel | 3014512518
Ear, Nose, and Throat Devices Panel | 3014512522
Gastroenterology-Urology Devices Panel | 3014512523
General and Plastic Surgery Devices Panel | 3014512519
General Hospital and Personal Use Devices Panel | 3014512520
Hematology and Pathology Devices Panel | 3014512515
Immunology Devices Panel | 3014512516
Medical Devices Dispute Resolution Panel | 3014510232
Microbiology Devices Panel | 3014512517
Molecular and Clinical Genetics Panel | 3014510231
Neurological Devices Panel | 3014512513
Obstetrics-Gynecology Devices | 3014512524
Ophthalmic Devices Panel | 3014512396
Orthopaedic and Rehabilitation Devices Panel | 3014512521
Radiological Devices Panel | 3014512526
National Mammography Quality Assurance Advisory Committee | 3014512397
Technical Electronic Product Radiation Safety Standards Committee | 3014512399
CENTER FOR VETERINARY MEDICINE
Veterinary Medicine Advisory Committee | 3014512548
NATIONAL CENTER FOR TOXICOLOGICAL RESEARCH
Science Advisory Board to NCTR | 3014512559
Advisory Committee on Special Studies Relating to the Possible Long-Term Health Effects of Phenoxy Herbicides and Contaminants | 3014512560

The hotline will provide the most recent information available on upcoming advisory committee meetings, guidance for making an oral presentation during the open public hearing portion of a meeting, and procedures on obtaining copies of transcripts of advisory committee meetings. Because the hotline will communicate the most current information available about any particular advisory committee meeting, this system will provide interested parties with timely and equal access to such information. The hotline should also conserve agency resources by reducing the current volume of inquiries individual FDA offices and employees must handle concerning advisory committee schedules and procedures.

This notice is issued under the Federal Advisory Committee Act (5 U.S.C. app. 2) and 21 CFR part 14, relating to advisory committees.

Dated: December 10, 2003.
Peter J. Pitts,
Associate Commissioner for External Relations.

[FR Doc. 03-31157 Filed 12-17-03; 8:45 am]

BILLING CODE 4160-01-S